DEPARTMENT OF THE INTERIOR

National Park Service

[NPS-NRSS-GRD-19921, PPWONRADG0, PPMRSNR1N.NG0000 (166)]

Proposed Information Collection; Mining Claims and Non-Federal Oil and Gas Rights

AGENCY: National Park Service, Interior.

ACTION: Notice; request for comments.

SUMMARY: We (National Park Service, NPS) will ask the Office of Management and Budget (OMB) to approve the information collection (IC) described below. To comply with the Paperwork Reduction Act of 1995 and as a part of our continuing efforts to reduce paperwork and respondent burden, we invite the general public and other Federal agencies to comment on this IC. This IC is scheduled to expire on March 31, 2016. We may not conduct or sponsor and a person is not required to respond to a collection unless it displays a currently valid OMB control number.

DATES: You must submit comments on or before February 16, 2016.

ADDRESSES: Please send a copy of your comments to Madonna L. Baucum, Information Collection Clearance Officer, National Park Service, 12201 Sunrise Valley Drive (Mail Stop 242, Room 2C114), Reston, VA 20192 (mail); or madonna_baucum@nps.gov (email). Please include “1024-0064” in the subject line of your comments.

FOR FURTHER INFORMATION CONTACT: To request additional information about this IC, contact Edward O. Kassman, Jr., Regulatory Specialist, Energy and Minerals Branch, Geologic Resources Division, National Park Service, at (303) 969-2146 or via email at Edward_Kassman@nps.gov.

SUPPLEMENTARY INFORMATION:

I. Abstract

We regulate mineral development activities inside park boundaries pursuant to rights associated with mining claims and non-Federal oil and gas rights under regulations codified at 36 CFR part 9, subpart A (“9A Regulations”), and 36 CFR part 9, subpart B (“9B Regulations”), respectively. We promulgated both sets of regulations in the late 1970's. In the case of mining claims, we promulgated the 9A Regulations pursuant to congressional authority granted under the Mining in the Parks Act of 1976, 54 U.S.C § 100731 et seq., and individual park enabling statutes. For non-Federal oil and gas rights, we regulate development activities pursuant to authority under the NPS Organic Act of 1916, 16 U.S.C. 1 et seq., and individual park enabling statutes. As directed by Congress, we developed the regulations to protect park resources and visitor values from the adverse impacts associated with mineral development in park boundaries. The regulations require operators to submit specific technical information describing their future development plans, including steps to mitigate the impacts of operations. We use the information to evaluate proposed operations, ensure that all necessary mitigation measures are employed to protect park resources and values, and ensure compliance with all applicable laws and regulations.

II. Data

OMB Control Number: 1024-0064.

Title: Mining Claims and Non-Federal Oil and Gas Rights, 36 CFR 9, subparts A and B.

Service Form Number(s): None.

Type of Request: Extension of a currently approved collection of information.

Description of Respondents: Businesses (one-fourth medium to large publicly owned companies and three-fourths private entities).

Respondent's Obligation: Required to obtain or retain a benefit.

Frequency of Collection: On occasion.

Estimated Annual Nonhour Burden Cost: None

Activity | Estimated number of annual responses | Estimated response time (minutes) | Estimated annual burden (hours)
36 CFR Part 9, Subpart A—Mining and Mining Claims | 1 | 176 | 176
36 CFR Part 9, Subpart B—Non-Federal Oil and Gas Operations in the National Park System | 20 | 176 | 3,520
Total | 21 |  | 3,696

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask us in your comment to withhold your personal identifying information from public review, we cannot guarantee that we will be able to do so.

Dated: December 9, 2015.
Madonna L. Baucum,
Information Collection Clearance Officer, National Park Service.

[FR Doc. 2015-31613 Filed 12-15-15; 8:45 am]

BILLING CODE 4310-EH-P